DEPARTMENT OF HEALTH AND HUMAN SERVICES

Administration for Children and Families

Proposed Information Collection Activity; Intergovernmental Reference Guide (IRG) OMB #0970-0209

AGENCY: Office of Child Support Enforcement, Administration for Children and Families, HHS.

ACTION: Request for public comment.

SUMMARY: The Intergovernmental Reference Guide (IRG) is a centralized and automated repository of state and tribal profiles that contains high-level descriptions of each state and tribal child support enforcement (CSE) program. These profiles provide state, tribal, and foreign country CSE agencies with an effective and efficient method for updating and accessing information needed to process intergovernmental child support cases.

DATES: Comments due within 60 days of publication. In compliance with the requirements of Section 3506(c)(2)(A) of the Paperwork Reduction Act of 1995, the Administration for Children and Families is soliciting public comment on the specific aspects of the information collection described above.

ADDRESSES: Copies of the proposed collection of information can be obtained and comments may be forwarded by emailing infocollection@acf.hhs.gov. Alternatively, copies can also be obtained by writing to the Administration for Children and Families, Office of Planning, Research and Evaluation, 330 C Street SW, Washington, DC 20201, Attn: ACF Reports Clearance Officer. All requests, emailed or written, should be identified by the title of the information collection.

SUPPLEMENTARY INFORMATION:

Description: The Office of Child Support Enforcement (OCSE) is proposing to add a new section (Section O) with six questions pertaining to family violence in the state profile. This will help process intergovernmental cases with family violence and help ensure the safety of children and families. OCSE is also proposing to delete Sections A-L (140 questions) from the tribal profile and create new sections (Sections A-D) with 11 questions regarding case processing. This will assist in the efficient processing of paternity and support obligations.

Respondents: State and tribal CSE agencies.

Annual Burden Estimates
Information collection instrument | Total number of respondents | Number of responses per respondent | Average burden hour per response | Annual burden hours
IRG: State Profile Guidance (states and territories) | 54 | 18 | 0.3 | 292
IRG: Tribal Profile Guidance | 62 | 18 | 0.3 | 335

Estimated Total Annual Burden Hours: 627.

Comments: The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority for the IRG information collection activities is: (1) 42 U.S.C. 652(a)(7), which requires the federal OCSE to provide technical assistance to state child support enforcement agencies to help them establish effective systems for collecting child and spousal support; (2) 42 U.S.C. 666(f), which requires states to enact the Uniform Interstate Family Support Act; (3) 45 CFR 301.1, which defines an intergovernmental case to include cases between states and tribes; (4) 45 CFR 303.7, which requires state CSE agencies to provide services in intergovernmental cases); and (5) 45 CFR 309.120, which requires a tribal child support program to include intergovernmental procedures in its tribal IV-D plan.

Mary B. Jones,
ACF/OPRE Certifying Officer.

[FR Doc. 2019-25851 Filed 11-27-19; 8:45 am]

BILLING CODE 4184-01-P